DEPARTMENT OF ENERGY

Federal Energy Regulatory Commission

[Docket No. EC98-40-003, et al.]

American Electric Power Company, et al.; Electric Rate and Corporate Filings

February 10, 2003.

The following filings have been made with the Commission. The filings are listed in ascending order within each docket classification.

1. American Electric Power Company

[Docket Nos. EC98-40-003, ER98-2777-004 and ER98-2786-004]

Take notice that on February 6, 2002, the American Electric Power Company tendered for filing with the Federal Energy Regulatory Commission (FERC) Market Monitoring of American Electric Power: Tenth Quarterly Report to FERC.

Comment Date: February 27, 2003.

2. New York Independent System Operator, Inc.

[Docket No. ER03-200-002]

Take notice that on February 5, 2003, the New York Independent System Operator, Inc. (NYISO) tendered for filing with the Federal Energy Regulatory Commission (Commission) a compliance filing in connection with the Commission's January 21, 2003., order in the above-referenced dockets.

The NYISO states that it has served a copy of this filing to all parties listed on the official service list for the above proceeding. The NYISO has also served a copy of this filing to all parties that have executed Service Agreements under the NYISO's Open-Access Transmission Tariff or Services Tariff, the New York State Public Service Commission and to the electric utility regulatory agencies in New Jersey and Pennsylvania.

Comment Date: February 26, 2003.

3. American Electric Power Service Corporation

[Docket No. ER03-493-000]

Take notice that on February 4, 2003, American Electric Power Service Corporation (AEPSC) on its own behalf and on behalf of West Texas Utilities (WTU) submitted for filing an Amended and Restated Transmission Service Agreement for ERCOT Regional Transmission Service, dated October 22, 2002, between AEPSC and Southwest Texas Electric Cooperative, Inc. (SWTEC) and an Amended and Restated Interconnection Agreement, dated October 22, 2002, between WTU and SWTEC. Both agreements have been amended to recognize the termination of transmission service to WTU's Tippett Substation for SWTEC load and the initiation of transmission service to WTU's McCamey and Mesa View substations for such load.

AEPSC seeks an effective date of October 22, 2002 for the termination and addition of these points of delivery and, accordingly, seeks waiver of the Commission of Texas.

Comment Date: February 25, 2003.

4. Chattahoochee EMC

[Docket No. ER03-494-000]

Take notice that on February 4, 2003, Chattahoochee EMC tendered for filing a Notice of Cancellation of its FERC Electric Tariff Original Volume No. 1 and its Service Agreement Nos. 1 through 28.

Comment Date: February 25, 2003.

5. Talbot EMC

[Docket No. ER03-495-000]

Take notice that on February 4, 2003, Talbot EMC tendered for filing a Notice of Cancellation of its FERC Electric Tariff Original Volume No. 1 and its Service Agreement Nos. 1 through 30.

Comment Date: February 25, 2003.

6. Calpine Parlin, LLC

[Docket No. ER03-496-000]

Take notice that on February 4, 2003, Calpine Parlin, LLC tendered for filing with the Federal Energy Regulatory Commission (Commission) a Notice of Succession to adopt Calpine Parlin, Inc.'s market-based rate authorizations. Calpine Parlin, LLC requests an effective date of February 4, 2003 for the Notice of Succession.

Comment Date: February 25, 2003.

7. PJM Interconnection, L.L.C.

[Docket No. ER03-497-000]

Take notice that on February 4, 2003, PJM Interconnection, L.L.C. (PJM), submitted for filing a revised interconnection service agreement between PJM and PPL West Earl, L.L.C. (PPL West Earl). The original agreement is revised to add development milestones and to include some other minor modifications.

PJM requests a January 10, 2003 effective date for the revised agreement.

PJM states that copies of this filing were served upon PPL West Earl and the state regulatory commissions within the PJM region.

Comment Date: February 25, 2003.

8. Florida Power & Light Company

[Docket No. ER03-498-000]

Take notice that on February 6, 2003, Florida Power & Light Company (FPL) tendered for filing an executed, revised Interconnection & Operation Agreement between FPL and Blue Heron Energy Center, LLC. FPL requests that this agreement be made effective upon execution by the parties, January 31, 2003., as mutually agreed by the parties.

Comment Date: February 27, 2003.

9. PacifiCorp

[Docket No. ER03-499-000]

Take notice that on February 5, 2003, pursuant to Section 205 of the Federal Power Act, PacifiCorp tendered for filing with the Federal Energy Regulatory Commission (Commission) a proposed revision to FERC Rate Schedule No. 554, PacifiCorp's currently effective rate schedule for the 1964 Pacific Northwest Coordination Agreement (PNCA). PacifiCorp has filed a revised tariff sheet to reflect an extension of the term of the PNCA from June 30, 2003. to July 31, 2003. PacifiCorp requests that the Commission accept the change effective May 1, 2003.

PacifiCorp states that copies of this filing have been served upon all parties to the PNCA.

Comment Date: February 26, 2003.

10. Liberty Power Corp., L.L.C.

[Docket No. ER03-500-000]

Take notice that on February 6, 2003, Liberty Power Corp., L.L.C. (Liberty) petitioned the Federal Energy Regulatory Commission (Commission) for acceptance of Liberty Rate Schedule FERC No. 1; the granting of certain blanket approvals, including the authority to sell electricity at market-based rates; and the waiver of certain Commission regulations.

Liberty states that it intends to engage in wholesale electric power and energy purchases and sales as a marketer, that it is not in the business of generating or transmitting electric power and that it has no corporate affiliations.

Comment Date: February 27, 2003.

11. La Paloma Generating Company, LLC

[Docket No. ER03-501-000]

Take notice that on February 6, 2003, La Paloma Generating Company, LLC (La Paloma) tendered for filing a proposed amendment to the Western Systems Power Pool (WSPP) agreement. The proposed amendment reflects the admission of La Paloma to the WSPP. La Paloma requests that the Commission authorize the proposed amendment to become effective on February 6, 2003.

Comment Date: February 27, 2003.

12. Niagara Mohawk Power Corporation

[Docket No. ER03-502-000]

Take notice that on February 7, 2003, Niagara Mohawk Power Corporation, a National Grid Company (Niagara) submitted for filing an Interconnection Facilities Agreement between Niagara and Hydro One Networks Inc. and an Interconnection Agreement between Niagara and Independent Electricity Market Operator.

Comment Date: February 28, 2003.

13. Aquila, Inc.

[Docket No. ER03-503-000]

Take notice that on February 7, 2003., Aquila, Inc. (Aquila) tendered for filing Service Agreement No. 96 under Aquila's FERC Electric Tariff, Third Revised Volume No. 25, a firm point-to-point transmission service agreement between Aquila's WestPlains Energy-Colorado division and MIECO, Inc.

UtiliCorp requests an effective date for the service agreement of February 7, 2002.

Comment Date: February 28, 2003.

14. Aquila, Inc.

[Docket No. ER03-504-000]

Take notice that on February 7, 2003, Aquila, Inc. (Aquila) tendered for filing Service Agreement No. 97 under Aquila's FERC Electric Tariff, Third Revised Volume No. 25, a short-term non-firm point-to-point transmission service agreement between Aquila's WestPlains Energy-Colorado division and MIECO, Inc.

UtiliCorp requests an effective date for the service agreement of February 7, 2003.

Comment Date: February 28, 2003.

15. Quonset Point Cogen, L.P.

[Docket No. ER03-505-000]

Take notice that on February 7, 2003, Quonset Point Cogen, L.P. (Quonset) tendered for filing with the Federal Energy Regulatory Commission (Commission) an application for an order accepting its FERC Electric Rate Schedule No. 1, granting certain blanket approvals, including the authority to sell electric energy and capacity at market-based rates, and waiving certain regulations of the Commission. Quonset requests that its Electric Rate Schedule No. 1 be made effective as of January 13, 2003.

Comment Date: February 28, 2003.

16. TXU Portfolio Management Company LP

[Docket No. ER03-506-000]

Take notice that on February 7, 2003, TXU Portfolio Management Company LP (TXU Portfolio Management), tendered for filing with the Federal Energy Regulatory Commission (Commission) a Notice of Succession pursuant to Section 35.16 of the Commission's Regulations, 18 CFR 35.16, and a revised market-based rate schedule (Rate Schedule). As a result of a name change, TXU Portfolio Management is succeeding to the tariffs and related service agreements of TXU Energy Trading Company LP, effective January 10, 2003. The revised Rate Schedule reflects the name change from TXU Energy Trading Company LP, and a revision to paragraph four (4) “Affiliate Sales” of the Rate Schedule to comply with the Commission's Order in Aquila, Inc., 101 FERC ¶ 61,331 (2002).

TXU Portfolio Management requests an effective date of January 10, 2003 for its revised Rate Schedule.

Comment Date: February 28, 2003.

17. TXU Big Brown Company LP, TXU DeCordova Company LP, TXU Tradinghouse Company LP, TXU Generation Company LP

[Docket No. ER03-507-000]

Take notice that on February 7, 2003, TXU Big Brown Company LP, TXU DeCordova Company LP, TXU Tradinghouse Company LP, and TXU Generation Company LP (Joint Applicants) filed with the Federal Energy Regulatory Commission Joint Applicants' Request for Waiver of Reporting Requirements and For Expedited Action.

Comment Date: February 28, 2003.

18. Upper Peninsula Power Company

[Docket No. ES03-23-000]

Take notice that on February 4, 2003, Upper Peninsula Power Company (Upper Peninsula) submitted an application pursuant to section 204 of the Federal Power Act seeking authorization to issue short-term debt in an amount not to exceed $20 million at any time.

Upper Peninsula also requests a waiver of the Commission's competitive bidding and negotiated placement requirements at 18 CFR 34.2.

Comment Date: February 24, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-3794 Filed 2-14-03; 8:45 am]

BILLING CODE 6717-01-P